FEDERAL COMMUNICATIONS COMMISSION

47 CFR Part 73

[DA 00-1396, MM Docket No. 00-111, MM Docket No. 00-112, MM Docket No. 00-113, RM-9900, RM-9901, RM-9904]

Radio Broadcasting Services; Fallon, NV, Weiser, OR, Randolph, NY

AGENCY: Federal Communications Commission.

ACTION: Proposed rule.

SUMMARY: The Commission requests comments on three petitions for rule making. FBB requests the allotment of Channel 281C to Fallon, NV, as the community's third local FM service. WE Broadcasting requests the allotment of Channel 280C1 to Weiser, OR, as the community's first local aural service. New Testament Christian Ministries, Inc., requests the allotment of Channel 290A to Randolph, NY, as the community's first local aural service.

DATES: Comments must be filed on or before August 14, 2000, and reply comments on or before August 29, 2000.

ADDRESSES: Federal Communications Commission, 445 12th Street, S.W., Room TW-A325, Washington, DC 20554. In addition to filing comments with the FCC, interested parties should serve the petitioner, or its counsel or consultant, as follows: A. Wray Fitch III, Gammon & Grange, P.C., 8280 Greensboro Drive, 7th Floor, McLean, VA 22102-3807 (Counsel to FBB Broadcasting, petitioner in RM-9900, and WE Broadcasting, petitioner in RM-9901); David G. O'Neil, Rini, Coran & Lancellotta, P.C., 1350 Connecticut Avenue, N.W., Suite 900, Washington, D.C. 20036-1701 (Counsel to New Testament Christian Ministries, Inc., petitioner in RM-9904).

FOR FURTHER INFORMATION CONTACT: Leslie K. Shapiro, Mass Media Bureau, (202) 418-2180.

SUPPLEMENTARY INFORMATION: This is a synopsis of the Commission's Notice of Proposed Rule Making, MM Docket No. 00-111, MM Docket No. 00-112, MM Docket No. 00-113, adopted June 14, 2000, and released June 23, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Channel 281C can be allotted to Fallon, NV, with a site restriction of 8.4 kilometers (5.2 miles) east, at coordinates 39-28-30 WL; 118-40-43 NL, to avoid a short-spacing to Station KODS, Channel 279C1, Carnelian Bay, CA, and Station KDOT, Channel 283C, Reno, NV. Channel 280C1 can be allotted to Weiser, OR, with a site restriction of 17.8 kilometers (11 miles) northwest, at coordinates 44-20-39 WL; 117-07-14 NL, to avoid a short-spacing to Station KARO, Channel 277C, Caldwell, ID, and Station KLTB, Channel 282C, Boise, ID. Channel 290A can be allotted to Randolph, NY, without the imposition of a site restriction, at coordinates 42-09-43 WL; 78-58-31 NL. However, the allotment will be short-spaced to Station CHRE-FM, Channel 289B, St. Catherines, Ontario, Canada. Therefore, concurrence in the allotment by the Canadian Government, as a specially negotiated, short-spaced allotment, must be obtained.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-19476 Filed 8-1-00; 8:45 am]

BILLING CODE 6712-01-U